DEPARTMENT OF DEFENSE

Department of the Army; Corps of Engineers

Notice of Availability for the Recirculated Draft Environmental Impact Statement/Environmental Impact Report for the Berths 97-109 [China Shipping] Container Terminal Project, Los Angeles County, CA

AGENCY: Department of the Army—U.S. Army Corps of Engineers, DoD.

ACTION: Notice of Availability.

SUMMARY: The U.S. Army Corps of Engineers, Los Angeles District (Regulatory Division), in coordination with the Port of Los Angeles, has completed and is re-circulating the Draft Environmental Impact Statement/Environmental Impact Report (EIS/EIR) for the Berths 97-109 [China Shipping] Container Terminal Project. The Port of Los Angeles requires authorization pursuant to Section 404 of the Clean Water Act and Section 10 of the River and Harbor Act to construct new wharves at Berths 100 and 102; dredge (41,000 cubic yards [yd3] of sediments) and dispose of that material at the upland Port Anchorage Road Disposal Site; develop backlands, including construction of terminal buildings, on 142 acres; install 10 new A-frame cranes at Berths 100 and 102; construct transportation infrastructure improvements in the vicinity of the existing terminal entrance (shared by the Berths 97-109 terminal and the Berths 121-131 terminal); construct two new bridge structures connecting Berths 97-109 terminal and Berths 121-131 terminal across the Southwest Slip; and relocate the Catalina Terminal to south of the Vincent Thomas Bridge at Berth 95.

FOR FURTHER INFORMATION CONTACT: Questions or comments concerning the recirculated Draft EIS/EIR should be directed to Dr. Spencer D. MacNeil, North Coast Branch, Regulatory Division, U.S. Army Corps of Engineers, P.O. Box 532711, Los Angeles, CA 90053-2325, (805) 585-2152.

SUPPLEMENTARY INFORMATION: The Port of Los Angeles and U.S. Army Corps of Engineers originally released the Berths 97-109 [China Shipping] Container Terminal Project Draft EIS/EIR in August 2006. Based on comments received on the Draft EIS/EIR, the Port of Los Angeles and U.S. Army Corps of Engineers decided to re-circulate the document. The April 2008 Draft EIS/EIR is a full recirculation of the original Draft EIS/EIR and addresses comments received on the August 2006 document. The Port of Los Angeles and U.S. Army Corps of Engineers will jointly hold a public meeting on June 5, 2008 at Banning's Landing Community Center in Wilmington, California, to receive public comments and assess public concerns regarding this recirculated Draft EIS/EIR and proposed terminal project. Written comments will be accepted until the close of the public review period on June 30, 2008.

Mark Durham,
Acting Chief, Regulatory Division, Los Angeles District.

[FR Doc. E8-10280 Filed 5-7-08; 8:45 am]

BILLING CODE 3710-KF-P